DEPARTMENT OF DEFENSE

Department of the Army, Corps of Engineers

Withdrawal of Intent To Prepare a Draft Environmental Impact Statement/Environmental Impact Report for the Ballona Creek Ecosystem Restoration Feasibility Study, Los Angeles County, CA

AGENCY: Department of the Army, U.S. Army Corps of Engineers, DoD.

ACTION: Notice of intent.

SUMMARY: The Los Angeles District of the U.S. Army Corps of Engineers (Corps) published a Notice of Intent to Prepare a Draft Environmental Impact Statement/Environmental Impact Report (EIS/EIR) for the Ballona Creek Ecosystem Restoration Feasibility Study in the Federal Register on September 20, 2005 (70 FR 55116). The study's purpose is to evaluate structural and non-structural means of restoring diminished ecosystem functions and services within the lower reach of Ballona Creek including coastal wetlands. Santa Monica Bay Restoration Commission (SMBRC) is the local sponsor for the cost-shared study.

On September 29, 2005, a public scoping meeting was held pursuant to requirements of the National Environmental Policy Act and Engineer Regulations 1105-2-100. Baseline conditions portions of the EIS/EIR have been completed as of January, 2012. On July 17, 2012, the SMBRC requested the Corps terminate the study. Therefore, the Corps is withdrawing the Notice of Intent to Prepare a draft EIS/EIR.

FOR FURTHER INFORMATION CONTACT: Ms. Jodi Clifford, Chief, Environmental Resources Branch. Mailing Address: Ms. Jodi Clifford, Chief, Environmental Resources Branch, Corps of Engineers, Los Angeles District, CESPL-PD-R, 915 Wilshire Boulevard, Los Angeles, CA 90017. Telephone: (213) 452-3840. Email: Jodi.L.Clifford@usace.army.mil.

SUPPLEMENTARY INFORMATION: The Corps is no longer pursing restoration within Ballona Creek as a cost-shared study within its Civil Works program. Although SMBRC requested the Corps terminate the feasibility study, SMBRC, acting on behalf of the California Department of Fish and Game, is moving forward with plans for ecosystem restoration within Ballona Creek. SMBRC must obtain permissions from the Corps to proceed with implementation of its restoration proposals. Therefore, the Corps is initiating an EIS pursuant to its authorities under Section 404 of the Clean Water Act, Section 10 of the 1899 Rivers and Harbors Act, and Title 33, U.S. Code, Section 408 for a project to be planned and carried out by SMBRC. To that end, the Corps published a Notice of Intent to Prepare an EIS in the Federal Register on July 25, 2012 (77 FR 43575). A scoping meeting was held on August 16, 2012. All technical studies and reports prepared under the Civil Works feasibility study authority will be utilized to the maximum practical extent in support of the EIS/EIR process now underway.

Dated: September 12, 2012.
R. Mark Toy,
Colonel, U.S. Army Commander and District Engineer.

[FR Doc. 2012-23669 Filed 9-25-12; 8:45 am]

BILLING CODE 3720-58-P